FEDERAL DEPOSIT INSURANCE CORPORATION

Notice of Termination of Receiverships

The Federal Deposit Insurance Corporation (FDIC or Receiver), as Receiver for each of the following insured depository institutions, was charged with the duty of winding up the affairs of the former institutions and liquidating all related assets. The Receiver has fulfilled its obligations and made all dividend distributions required by law.

Notice of Termination of Receiverships
Fund | Receivership name | City | State | Termination date
10024 | PFF BANK AND TRUST | POMONA | CA | 11/01/2022
10026 | SANDERSON STATE BANK | SANDERSON | TX | 11/01/2022
10062 | STRATEGIC CAPITAL BANK | CHAMPAIGN | IL | 11/01/2022
10185 | LA JOLLA BANK, FSB | LA JOLLA | CA | 11/01/2022
10190 | WATERFIELD BANK | GERMANTOWN | MD | 11/01/2022
10226 | CF BANCORP | PORT HURON | MI | 11/01/2022
10267 | SOUTHWESTUSA BANK | LAS VEGAS | NV | 11/01/2022
10298 | SECURITY SAVINGS BANK | OLATHE | KS | 11/01/2022
10305 | THE GORDON BANK | GORDON | GA | 11/01/2022

The Receiver has further irrevocably authorized and appointed FDIC-Corporate as its attorney-in-fact to execute and file any and all documents that may be required to be executed by the Receiver which FDIC-Corporate, in its sole discretion, deems necessary, including but not limited to releases, discharges, satisfactions, endorsements, assignments, and deeds. Effective on the termination dates listed above, the Receiverships have been terminated, the Receiver has been discharged, and the Receiverships have ceased to exist as legal entities.

(Authority: 12 U.S.C. 1819)

Federal Deposit Insurance Corporation.
Dated at Washington, DC, on November 1, 2022.
James P. Sheesley,
Assistant Executive Secretary.

[FR Doc. 2022-24095 Filed 11-3-22; 8:45 am]

BILLING CODE 6714-01-P